DEPARTMENT OF THE INTERIOR

Bureau of Safety and Environmental Enforcement

[Docket ID No. BSEE-2011-0006; OMB Control Number 1014-NEW]

Information Collection Activities: Subpart A, General; Submitted for Office of Management and Budget (OMB) Review; Comment Request

AGENCY: Bureau of Safety and Environmental Enforcement (BSEE), Interior.

ACTION: 30-day Notice.

SUMMARY: To comply with the Paperwork Reduction Act of 1995 (PRA), we are notifying the public that we have submitted to OMB an information collection request (ICR) for a new approval of the paperwork requirements under 30 CFR part 250, subpart A, General. This notice also provides the public a second opportunity to comment on the paperwork burden of these regulatory requirements.

DATES: Submit written comments by July 6, 2012.

ADDRESSES: Submit comments by either fax (202) 395-5806 or email (OIRA_DOCKET@omb.eop.gov) directly to the Office of Information and Regulatory Affairs, OMB, Attention: Desk Officer for the Department of the Interior (1014-NEW). Please provide a copy of your comments to BSEE by any of the means below.

• Electronically: go to http://www.regulations.gov. In the entry titled, “Enter Keyword or ID,” enter BSEE-2011-0006 then click search. Follow the instructions to submit public comments and view all related materials. We will post all comments.

• Email nicole.mason@bsee.gov; fax (703) 787-1546, or mail or hand-carry comments to: Department of the Interior; Bureau of Safety and Environmental Enforcement; Regulations Development Branch; Attention: Nicole Mason; 381 Elden Street, HE3313; Herndon, Virginia 20170-4817. Please reference 1014-NEW in your comment and include your name and return address.

FOR FURTHER INFORMATION CONTACT: Nicole Mason, Regulations Development Branch, (703) 787-1605, to request additional information about this ICR. To see a copy of the entire ICR submitted to OMB, go to http://www.reginfo.gov (select Information Collection Review, Currently Under Review).

SUPPLEMENTARY INFORMATION: Title: 30 CFR Part 250, Subpart A, General.

Form(s): BSEE-0132, BSEE-0143, and BSEE-1832.

OMB Control Number: 1014-NEW.

Abstract: The Outer Continental Shelf (OCS) Lands Act, as amended (43 U.S.C. 1331 et seq. and 43 U.S.C. 1801 et seq.), authorizes the Secretary of the Interior to prescribe rules and regulations necessary for the administration of the leasing provisions of the Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

The Independent Offices Appropriations Act (31 U.S.C. 9701), the Omnibus Appropriations Bill (Pub. L. 104-133, 110 Stat. 1321, April 26, 1996), and OMB Circular A-25, authorize Federal agencies to recover the full cost of services that confer special benefits. This authority and responsibility are among those delegated to BSEE. A request for approval required in Subpart A is subject to cost recovery, and BSEE regulations specify a cost recovery fee for this request.

Regulations implementing these responsibilities are delegated to BSEE. Therefore, this ICR addresses the regulations under 30 CFR part 250, subpart A. This request also covers the related Notices to Lessees and Operators (NTLs) that BSEE issues to clarify and provide additional guidance on some aspects of our regulations.

To accommodate the split of regulations from the Bureau of Ocean Energy Management, Regulation and Enforcement to BSEE (76 FR 64432), BSEE is requesting OMB approval of the already approved burden hours that were previously under 1010-0114 to reflect BSEE's new 1014 numbering system.

Responses are mandatory or are required to obtain or retain benefits. No questions of a sensitive nature are asked. Requests for BSEE approval may contain proprietary information related to performance standards or alternative approaches to conducting operations different from those approved and specified in BSEE regulations. We will protect proprietary information according to the Freedom of Information Act (5 U.S.C. 552), under its implementing regulations (43 CFR 2); as well as 30 CFR 250.197, Data and information to be made available to the public or for limited inspection, and 30 CFR 252, OCS Oil and Gas Information Program.

BSEE uses the information collected under the subpart A regulations to ensure that operations on the OCS are carried out in a safe and pollution-free manner, do not interfere with the rights of other users on the OCS, and balance the protection and development of OCS resources. Specifically, we use the information collected to:

• Review records of formal crane operator and rigger training, crane operator qualifications, crane inspections, testing, and maintenance to ensure that lessees/operators perform operations in a safe and workmanlike manner and that equipment is maintained in a safe condition. BSEE also uses the information to make certain that all new and existing cranes installed on OCS fixed platforms must be equipped with anti-two block safety devices, and to assure that uniform methods are employed by lessees for load testing of cranes.

• Review welding plans, procedures, and records to ensure that welding is conducted in a safe and workmanlike manner by trained and experienced personnel.

• Provide lessees/operators greater flexibility to comply with regulatory requirements through approval of alternative equipment or procedures and departures to regulations if they demonstrate equal or better compliance with the appropriate performance standards.

• Ensure that injection of gas promotes conservation of natural resources, prevents waste, and that subsurface storage of natural gas does not unduly interfere with development and production operations under existing leases.

• Record the agent and local agent empowered to receive notices and comply with regulatory orders issued.

• Provide for orderly development of leases through the use of information to determine the appropriateness of lessee/operator requests for suspension of operations, including production.

• Improve safety and environmental protection on the OCS through collection and analysis of accident reports to ascertain the cause of the accidents and to determine ways to prevent recurrences.

• Ascertain when the lease ceases production or when the last well ceases production in order to determine the 180th day after the date of completion of the last production. BSEE will use this information to efficiently maintain the lessee/operator lease status.

• Be informed when there could be a major disruption in the availability and supply of natural gas and oil due to natural occurrences/hurricanes, to advise the U.S. Coast Guard (USCG) in case of the need to rescue offshore workers in distress, to monitor damage to offshore platforms and drilling rigs, and to advise the news media and interested public entities when production is shut-in and when resumed. The Gulf of Mexico OCS Region (GOMR) uses a reporting form, BSEE-0132, Evacuation Statistics, for respondents to report evacuation statistics when necessary. This form requires the respondent to submit general information such as company name, contact, date, time, telephone number, as well as number of platforms and drilling rigs evacuated and not evacuated. We also require production shut-in statistics for oil (BOPD) and gas (MMSCFD).

• Form BSEE-0143, Facility/Equipment Damage Report, assists lessees, lease operators, and pipeline right-of-way holders when reporting damage by a hurricane, earthquake, or other natural phenomenon. They are required to submit an initial damage report to the Regional Supervisor within 48 hours after completing the initial evaluation of the damage and then, subsequent reports, monthly and immediately, whenever information changes until the damaged structure or equipment is returned to service.

• Allow lessees/operators who exhibit unacceptable performance an incremental approach to improving their overall performance prior to a final decision to disqualify a lessee/operator or to pursue debarment proceedings through the execution of a performance improvement plan (PIP). The subpart A regulations do not address the actual process that we will follow in pursuing the disqualification of operators under §§ 250.135 and 250.136. However, our internal enforcement procedures include allowing such operators to demonstrate a commitment to acceptable performance by the submission of a PIP.

• Determine that respondents have corrected all Incidents of Non-Compliance (INC)(s), Form BSEE-1832, identified during inspections. BSEE issues this form to the operator and the operator then corrects the INC(s), signs and returns the form to the BSEE Regional Supervisor within 14 days of issuance.

Frequency: On occasion; monthly, daily, or varies by section.

Description of Respondents: Potential respondents comprise Federal oil, gas, or sulphur OCS lessees and/or operators.

Estimated Reporting and Recordkeeping Hour Burden: The estimated annual hour burden for this information collection is a total of 50,859 hours. The following chart details the individual components and estimated hour burdens. In calculating the burdens, we assumed that respondents perform certain requirements in the normal course of their activities. We consider these to be usual and customary and took that into account in estimating the burden.

Citation 30 CFR 250 subpart A and related forms/NTLs | Reporting or recordkeeping requirement | Non-hour cost burdens: Hour burden | Non-hour cost burdens: Average Number of annual responses | Non-hour cost burdens: Annual burden hours
Authority and Definition of Terms
104; Form BSEE-1832 | Appeal orders or decisions; appeal INCs | Exempt under 5 CFR 1320.4(a)(2), (c). |  | 0
Performance Standards
109(a); 110 | Submit welding, burning, and hot tapping plans | 2 | 54 plans | 108
118; 121; 124 | Apply for injection of gas; use BSEE-approved formula to determine original gas from injected/stored | 10 | 4 applications | 40
Subtotal |  |  | 58 responses | 148 hours
Cost Recovery Fees
125; 126 | Cost Recovery Fees; confirmation receipt etc; verbal approvals pertaining to fees | Cost Recovery Fees and related items are covered individually throughout this subpart |  | 0
Forms
130-133 | Submit “green” response copy of Form BSEE-1832 indicating date violations (INCs) corrected | 2 | 884 forms | 1,768
145 | Submit designation of agent and local agent for Regional Supervisor' and/or Regional Director's approval | 1 | 8 submittals | 8
186(a)(3); NTL | Apply to receive administrative entitlements to eWell (electronic/digital form submittals) | Not considered information collection under 5 CFR 1320.3(h)(1). |  | 0
192 | Daily report of evacuation statistics for natural occurrence/hurricane (GOMR Form BSEE-0132 (form takes 1 hour)) when circumstances warrant; inform BSEE when you resume production | 1.5 | 1,950 reports or forms | 2,925
192(b) | Use Form BSEE-0143 to submit an initial damage report to the Regional Supervisor | 3 | 133 forms | 399
192(b) | Use Form BSEE-0143 to submit subsequent damage reports on a monthly basis until damaged structure or equipment is returned to service; immediately when information changes; date item returned to service must be in final report | 1 | 133 forms | 133
Subtotal |  |  | 3,108 responses | 5,233 hours
Inspection of Operations
130-133 | Request reconsideration from issuance of an INC | 2 | 169 requests | 338
| Request waiver of 14-day response time | 1 | 260 waivers | 260
| Notify BSEE before returning to operations if shut-in | 1 | 663 notices | 663
133 | Request reimbursement for food, quarters, and transportation provided to BSEE representatives (no requests received in many years; minimal burden) | 1.5 | 6 requests | 9
Subtotal |  |  | 1,098 responses | 1,270 hours
Disqualification
135 BOEMRE internal process | Submit PIP under BSEE implementing procedures for enforcement actions | 40 | 3 plans | 120
Subtotal |  |  | 3 responses | 120 hours
Special Types of Approval
140 | Request various oral approvals not specifically covered elsewhere in regulatory requirements | 1 | 260 requests | 260
140(c) | Submit documentation when stopping approved flaring with required information | Burden covered under 30 CFR 250.1163(e) (1014-0019). |  | 0
141; 198 | Request approval to use new or alternative procedures, along with supporting documentation if applicable, including BAST not specifically covered elsewhere in regulatory requirements | 20 | 490 requests | 9,800
142; 198 | Request approval of departure from operating requirements not specifically covered elsewhere in regulatory requirements, along with supporting documentation if applicable | 2.5 | 952 requests | 2,380
Subtotal |  |  | 1,702 responses | 12,440 hours
Naming and Identifying Facilities and Wells (Does Not Include MODUs)
150; 151; 152; 154(a) | Name and identify facilities, artificial islands, MODUs, helo landing facilities etc., with signs | 3 | 585 new/replacement signs | 1,755
150; 154(b) | Name and identify wells with signs | 2 | 188 new wells | 376
Subtotal |  |  | 773 responses | 2,131 hours
Suspensions
168; 170; 171; 172; 174; 175; 177; 180(b), (d) | Request suspension of operation or production; submit schedule of work leading to commencement; supporting information; include pay.gov confirmation receipt | 10 | 1,661 requests | 16,610
|  | $1,968 fee × 1,661 = $3,268,848 *
| Submit progress reports on SOO or SOP as condition of approval | 3 | 703 reports | 2,109
172(b); 177(a) | Conduct site-specific study; submit results; request payment by another party. No instances requiring this study in several years—could be necessary if a situation occurred such as severe damage to a platform or structure caused by a hurricane or a vessel collision | 100 | 1 study/report | 100
177(b), (c), (d) | Various references to submitting new, revised, or modified exploration plan, development/production plan, or development operations coordination document | Burden covered under BOEM's 30 CFR 550, subpart B, 1010-0151. |  | 0
Subtotal |  |  | 2,365 responses | 18,819 hours
|  |  | $3,268,848 non-hour cost burden
Primary Lease Requirements, Lease Term Extensions, and Lease Cancellations
180(a), (h), (i), | Notify and submit report on various leaseholding operations and lease production activities | 2 | 53 reports or notices | 106
180(f), (g), (h), (i) | Submit various operations and production data to demonstrate production in paying quantities to maintain lease beyond primary term; notify BSEE when you begin conducting operations beyond its primary term | 2 |  | 808
|  | 0.5 | 404 submissions/notifications | 202
180(e), (j) | Request more than 180 days to resume operations; notify BSEE if operations do not begin within 180 days | 4 |  | 352
|  | 0.5 | 88 requests/notifications | 44
Subtotal |  |  | 545 responses | 1,512 hours
Information and Reporting Requirements
186; NTL | Submit information and reports, as BSEE requires | 10 | 200 | 2,000
187; 188(a-b); 189; 190(a-c); 192; NTL | Report to the District Manager immediately via oral communication and written follow-up within 15 calendar days, incidents pertaining to: fatalities; injuries; LoWC; fires; explosions; all collisions resulting in property or equipment damage >$25K; structural damage to an OCS facility; cranes; incidents that damage or disable safety systems or equipment (including firefighting systems); include hurricane reports such as platform/rig evacuation, rig damage, P/L damage, and platform damage; operations personnel to muster for evacuation not related to weather or drills; any additional information required. If requested, submit copy marked as public information | Oral 0.5 | 898 | 449
|  | Written 2.5 | 950 | 2,375
187(d) | Report all spills of oil or other liquid pollutants | Burden covered under 30 CFR 254 (1014-0007). |  | 0
188(a)(5) | Report to District Manager hydrogen sulfide (H2S) gas releases immediately by oral communication | Burden covered under 30 CFR 250, subpart D, 1014-0018. |  | 0
191 | Submit written statement/Request compensation mileage and services for testimony re: accident investigation | Exempt under 5 CFR 1320.4(a)(2), (c). |  | 0
193 | Report apparent violations or non-compliance | 1.5 | 6 reports | 9
194(c) | Report archaeological discoveries | 2 | 6 reports | 12
195 | Notify District Manager within 5 workdays of putting well in production status (usually oral). Follow-up with either fax/email within same 5 day period (burden includes oral and written) | 1 | 188 notifications | 188
196 | Submit data/information for post-lease G&G activity and request reimbursement | Burden covered under BOEM's 30 CFR 551 (1010-0048). |  | 0
197(c) | Submit confidentiality agreement | 1 | 1 | 1
101-199 | General departure or alternative compliance requests not specifically covered elsewhere in Subpart A | 2 | 21 requests | 42
Subtotal |  |  | 2,270 responses | 5,076 hours
Recordkeeping
108(e) | Retain records of design and construction for life of crane, including installation records for any anti-two block safety devices; all inspection, testing, and maintenance for at least 4 years; crane operator and all rigger personnel qualifications for at least 4 years | 1.5 | 2,151 record-keepers | 3,227 (rounded)
109(b); 113(c) | Retain welding plan and drawings of safe-welding areas at site; designated person advises in writing that it is safe to weld | 1 | 637 operations | 637
132(b)(3) | During inspections make records available as requested by inspectors | 2 | 123 requests | 246
Subtotal |  |  | 2,911 responses | 4,110 hours
Total Burden |  |  | 14,833 Responses | 50,859 Hours
|  |  | $3,268,848 Non-Hour Cost Burdens
* Cost recovery monies collected are based on actual submittals through Pay.gov for FY 2011.

Estimated Reporting and Recordkeeping Non-Hour Cost Burden: We have identified one non-hour cost burden. Section 250.171 requests a cost recovery fee for a Suspension of Operations or a Production Request (SOO/SOP). We have not identified any other non-hour cost burdens associated with this collection of information. We estimate a total reporting non-hour cost burden of $3,268,848.

Public Disclosure Statement: The PRA (44 U.S.C. 3501 et seq.) provides that an agency may not conduct or sponsor a collection of information unless it displays a currently valid OMB control number. Until OMB approves a collection of information, you are not obligated to respond.

Comments: Section 3506(c)(2)(A) of the PRA (44 U.S.C. 3501 et seq.) requires each agency “* * * to provide notice * * * and otherwise consult with members of the public and affected agencies concerning each proposed collection of information * * *” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on February 3, 2012, we published a Federal Register notice (77 FR 5561) announcing that we would submit this ICR to OMB for approval. The notice provided the required 60-day comment period. In addition, the § 250.199 regulation informs the public that they may comment at any time on the collections of information and provides the address to which they should send comments. We have received no comments in response to these efforts.

Public Availability of Comments: Before including your address, phone number, email address, or other personal identifying information in your comment, you should be aware that your entire comment—including your personal identifying information—may be made publicly available at any time. While you can ask us in your comment to withhold your personal identifying information from public review, we cannot guarantee that we will be able to do so.

Acting BSEE Information Collection Clearance Officer: Cheryl Blundon (703) 787-1607.

Dated: May 22, 2012.
Robert W. Middleton,
Acting Chief, Office of Offshore Regulatory Programs.

[FR Doc. 2012-13724 Filed 6-5-12; 8:45 am]

BILLING CODE 4310-VH-P